DEPARTMENT OF DEFENSE

Office of the Secretary

Meeting of the Technology and Privacy Advisory Committee (TAPAC)

AGENCY: Department of Defense.

ACTION: Notice of meeting.

SUMMARY: An open meeting of the Technology and Privacy Advisory Committee was held November 20-21, 2003. The purpose of the meeting was for presentations of interest and discussion concerning the legal and policy considerations implicated by the application of advanced information technologies to counter-terrorism and counter-intelligence missions.

Additional information, including prepared testimony of witnesses, will be posted on the Committee's Web site as it becomes available.

This notice has been posted on the Committee's Web site for three weeks, but an administrative error resulted in it being published in the Federal Register less than 15 days before the meeting date.

DATES: Thursday, November 20, 9 a.m.-4 p.m. on Friday, November 21, 8 a.m.-12 p.m.

ADDRESSES: Dirksen Senate Office Building Room 138 (SD-138), 1st and C Streets, NE; adjoining the Hart Senate Office Building.

FOR FURTHER INFORMATION CONTACT: Please check the Web site for location and/or agenda changes at http://www.sainc.com/tapac, or contact Ms. Lisa Davis, Executive Director, Technology and Privacy Advisory Committee, The Pentagon, Room 3E1045, Washington, DC 20301-3330, telephone 703-695-0903.

Dated: November 14, 2003.
Patricia L. Toppings,
Alternate OSD Federal Register Liaison Officer, Department of Defense.

[FR Doc. 03-29062 Filed 11-20-03; 8:45 am]

BILLING CODE 5001-06-M